DEPARTMENT OF COMMERCE

International Trade Administration

[A-570-840]

January 2001 Sunset Reviews: Final Result and Revocation

AGENCY: Import Administration, International Trade Administration, Department of Commerce.

ACTION: Notice of final results of sunset reviews and revocation of antidumping duty order on manganese metal from the People's Republic of China.

SUMMARY: On January 2, 2001, the Department of Commerce (“the Department”) initiated a sunset review of the antidumping duty order on manganese metal from the People's Republic of China (“PRC”) (66 FR 94). Because the domestic interested parties have withdrawn, in full, their participation in the ongoing sunset reviews, the Department is revoking this antidumping duty order.

EFFECTIVE DATE: February 6, 2001.

FOR FURTHER INFORMATION CONTACT: Martha V. Douthit or James P. Maeder, Office of Policy, Import Administration, International Trade Administration, U.S. Department of Commerce, 14th Street and Constitution Avenue, NW., Washington, DC 20230; telephone: (202) 482-5050 or (202) 482-3330, respectively.

SUPPLEMENTARY INFORMATION:

The Applicable Statue

Unless otherwise indicated, all citations to the Tariff Act of 1930, as amended (the “Act”), are references to the provisions effective January 1, 1995, the effective date of the amendments made to the Act by the Uruguay Round Agreements Act (“URAA”). In addition, unless otherwise indicated, all citations to the Department of Commerce's (“Department”) regulations are to 19 CFR part 351 (2000).

Background

On February 6, 1996, the Department issued an antidumping duty order on manganese metal from the PRC, as amended (61 FR 4415). Pursuant to section 751(c) and 19 CFR part 351 in general, the Department initiated a sunset review of this order by publishing notice of the initiation in the Federal Register 66 FR 94 (January 2, 2001). In addition, as a courtesy to interested parties, the Department sent letters, via certified and registered mail, to each party listed on the Department's most current service list for this proceeding to inform them of the automatic initiation of a sunset review of this order.

We received a notice of intent to participate and a complete substantive response from Kerr-McGee Chemical LLC (“KMC”) by the deadline dates (see 19 CFR 351.218(d)(1)(i)). On March 1, 2001, we received a notice from KMC withdrawing its notice of intent to participate. As a result, the Department determined that no domestic party intends to participate in the sunset review and, on March 7, 2001, we notified the International Trade Commission that we intended to issue a final determination revoking this antidumping duty order.

Determination To Revoke

Pursuant to section 751(c)(3)(A) of the Act and section 19 CFR 351.218(d)(1)(iii)(B)(3), if no domestic interested party responds to the notice of initiation, the Department shall issue a final determination, within 90 days after the initiation of the review, revoking the finding or order or terminating the suspended investigation. Because KMC withdrew its notice of intent to participate and no other domestic interested party filed a substantive response, the Department finds that no domestic interested party is participating in this review and we are revoking this antidumping duty order.

Effective Date of Revocation

Pursuant to sections 751(c)(3)(A) and 751(d)(2) of the Act, and 19 CFR 351.222(i)(2)(i), the Department will instruct the Customs Service to terminate the suspension of liquidation of the merchandise subject to this order entered, or withdrawn from warehouse, on or after February 6, 2001. Entries of subject merchandise prior to the effective date of revocation will continue to be subject to suspension of liquidation and countervailing duty deposit requirements. The Department will complete any pending administrative reviews of this order and will conduct administrative reviews of subject merchandise entered prior to the effective date of revocation in response to appropriately filed requests for review.

Effective January 20, 2001, Bernard T. Carreau is fulfilling the duties of the Assistant Secretary for Import Administration.

Dated: March 26, 2001.
Bernard T. Carreau,
Deputy Assistant Secretary, Import Administration.

[FR Doc. 01-8035 Filed 3-30-01; 8:45 am]

BILLING CODE 3510-DS-P